DEPARTMENT OF COMMERCE

National Institute of Standards and Technology

[Docket No.: 170717677-7677-01]

Request for Information on the Development of the Organization of Scientific Area Committees (OSAC) for Forensic Science 2.0

AGENCY: National Institute of Standards and Technology, Department of Commerce.

ACTION: Notice; request for information.

SUMMARY: The National Institute of Standards and Technology (NIST) and the Department of Justice (DOJ) established the Organization of Scientific Area Committees (OSAC) for Forensic Science in 2013 as part of a larger effort to strengthen forensic science in the United States. NIST has primary responsibility to support the OSAC and has publicly announced its intention to transition the administration of the OSAC to another host within five to ten years. NIST made a commitment to the forensic science community (community) that OSAC 2.0 will ensure the continued scientific integrity and stability of the organization. NIST publishes this notice to request information for consideration in the development of a comprehensive transition plan for the OSAC that meets the needs of the community and ensures that transition is conducted in a manner that safeguards the efficiency and effectiveness of the OSAC.

DATES: NIST will accept written responses to this request for information until 11:59 p.m. Eastern Time on October 30, 2017.

ADDRESSES: Responses to this request for information must be made electronically through the Federal eRulemaking Portal: https://www.regulations.gov/. Follow the instructions for submitting comments. Please include your name, organization's name (if any) and cite “Response to OSAC Request for Information” in all correspondence.

All responses, including attachments, will be posted to the docket at https://www.regulations.gov/ without change or redaction. Accordingly, respondents should not include information they do not wish to be posted (e.g., personal or confidential business information). Responses that contain profanity, vulgarity, threats, or other inappropriate language will not be posted or considered.

FOR FURTHER INFORMATION CONTACT: Ms. Grace Hao, (301) 975-4752 or Grace.Hao@NIST.gov.

SUPPLEMENTARY INFORMATION: In February 2013, DOJ and NIST announced a partnership that included the formation of the OSAC. As is stated in the OSAC Charter, the purpose of the OSAC is to strengthen the Nation's use of forensic science by: Providing technical leadership necessary to facilitate the development and promulgation of consensus-based documentary standards and guidelines for forensic science; promoting standards and guidelines that are fit-for-purpose and based on sound scientific principles; promoting the use of OSAC standards and guidelines by accreditation and certification bodies; and establishing and maintaining working relationships with other similar organizations. The OSAC Charter and Bylaws are available online at: https://www.nist.gov/topics/forensic-science/about-osac.

These purposes of the OSAC are achieved through the OSAC Registry, the repository for all standards and guidelines. A standard or guideline is posted on the OSAC Registry only after the validity of any methods it contains has been assessed by forensic practitioners, academic researchers, measurement scientists, and statisticians through a consensus development process that allows participation and comment from all relevant stakeholders. NIST retains ultimate authority over posting of standards and responsibility for support of the OSAC Registry.

The OSAC Charter states that the aims of the OSAC are to: Populate the OSAC Registry; develop and maintain the Principles of Professional Practice; compile and update the forensic science catalog of standards and related documents; maintain Priority Action Plan documents on OSAC strategic objectives and associated goals and intended actions; promote and improve the communication, dissemination and use of forensic science standards, accreditation, and personnel competencies; encourage forensic science service providers in the United States to implement guidelines and standards (e.g., ISO/IEC 17025, etc.) for quality and competency; provide insight on each forensic science discipline's research and measurement standard needs; and enlist stakeholder involvement from a broad community to provide public comment on OSAC outputs.

Under the OSAC Charter, NIST has primary responsibility to coordinate development of a quality infrastructure for forensic science standards development and to support the OSAC. NIST envisioned the OSAC as a multi-level organization consisting of five Scientific Area Committees (SACs) that report to a Forensic Science Standards Board (FSSB). Each of the five SACs oversees discipline-specific subcommittees. In addition, there are three Resource Committees that provide input to the FSSB, SACs, and SAC Subcommittees. DOJ funds the OSAC through appropriated funds that are transferred to NIST. While DOJ personnel participate as members of OSAC committees and subcommittees, DOJ itself does not review or approve OSAC standards prior to posting on the Registry.

Both NIST and DOJ recognized from the outset that the OSAC would be realigned over time to ensure continuous improvement and better realize its purpose and objectives. NIST has publicly announced its intention to transition the administration of the OSAC to another host within five to ten years. NIST's goals in this transition process are to establish the next generation of OSAC (OSAC 2.0) that strengthens forensics science, follows American National Standards Institute principles for standards development, and promotes a collaborative process that actively involves practitioners and researchers. NIST notes that, as a non-regulatory research and development agency, it does not contemplate undertaking any a regulatory or quasi-regulatory function in connection with OSAC 2.0. NIST is open to maintaining elements of the current OSAC structure, to modifications to the structure, as well as to substantially different structural concepts, including several examples of concepts at: https://www.nist.gov/topics/forensic-science/potential-concepts-osac-20. NIST notes its continuing commitment to the forensic science community, that OSAC 2.0 will promote the continued scientific integrity and stability of the organization.

NIST is now in the process of developing a process for the transition of OSAC 1.0 to an OSAC 2.0 structure that will accomplish these goals and safeguard the efficiency and effectiveness of the organization. To ensure that the transition plan is comprehensive and meets the needs of the community, NIST, in collaboration with DOJ, requests from the public, comments on the questions below, which will inform the approach to an OSAC 2.0 in the following six areas: (A) Purpose, (B) oversight and independence, (C) work product and aims, (D) structure, (E) participation, and (F) funding.

(A) Purpose: As stated above, the OSAC charter identifies four purposes. (See section 1.1: https://www.nist.gov/sites/default/files/documents/2017/03/16/fssb_osac_charter_and_bylaws_v_1.3.pdf). What is your opinion regarding whether the OSAC is fulfilling these purposes under the current structure? What is your opinion regarding whether these purposes/functions are appropriate for the OSAC and whether the purposes should be modified in any way? What is your opinion regarding what role, if any, the OSAC should be playing in addressing the recommendations of the 2009 National Academies of Sciences report, “Strengthening Forensic Science in the United States: A Path Forward” (https://www.nap.edu/read/12589/chapter/1)?

(B) Oversight and independence: Please provide your views regarding what type of entity should host the OSAC (e.g., governmental, professional association, etc.). What is your opinion about the preferred characteristics of a host organization for an effective OSAC? What are your views as to the type of organization that should provide oversight to the OSAC? Do you believe that the OSAC should have more/less independence from a host organization?

(C) Work products and aims: As stated above, the OSAC Charter identifies eight aims. (See section 1.2: https://www.nist.gov/sites/default/files/documents/2017/03/16/fssb_osac_charter_and_bylaws_v_1.3.pdf.) What is your opinion regarding whether the OSAC is fulfilling these aims as structured? Do you believe that the OSAC is addressing the correct aims? What are your views as to the type of work products the OSAC should produce? What do you believe are the essential elements of work products? Please provide your opinion as to whether there should be implementation/enforcement of the work products. Do you believe that the OSAC should develop “best practices” and other materials that are not formal “standards”?

(D) Structure: What are your views as to whether the current the OSAC structure works efficiently? Do you believe that another structure should be utilized? Please provide your opinion about whether there are any issues in the current work product development process that should be addressed structurally. In your view, does the reliance on standards development organizations function as intended (please include the reasons for your opinion)?

(E) Participation: What are your views as to the community the OSAC should serve? In your opinion, what stakeholders must be a part of the OSAC (e.g., practitioners, researchers, forensic science societies, accreditation bodies, scientific societies, human factors experts, metrologists, standards development organizations, legal practitioners)? If you think that any of these entities should be excluded, please explain why and identify other venues for the views of the excluded entities to be incorporated into forensic practice, if appropriate. In your view, should some stakeholders serve more limited roles and, if so, how and why?

(F) Funding: What is your opinion as to the funding model that the OSAC should employ—Entirely funded by the Federal government, by non-Federal funds, or a combination of funding sources? (Please include your thoughts on the role of funding sources such as membership fees, certification fees, and meeting registration fees.) What are your views about the implications of funding models for the other traits, particularly oversight and independence?

Response to this request for information (RFI) is voluntary, and comments are not limited to the specific questions posed. Respondents need not reply to all questions; however, it is requested that they clearly indicate the letter of each question to which they are responding. All responses to this RFI must be submitted electronically through www.regulations.gov.

All responses received will be posted on www.regulations.gov without making any changes to the responses or redacting any information, including any personally identifiable information provided. It is the responsibility of the respondent to safeguard personally identifiable information. You are not required to submit personally identifying information in order to respond and it is recommended that respondents' personally identifiable information not be included. Responses may be provided anonymously, but those respondents who do share contact information are requested to include brief background information regarding the respondent's subject-matter experience and expertise. Responses submitted through www.regulations.gov will not include the email address of the respondent unless the respondent chooses to include that information as part of the response.

Authority: 15 U.S.C. 272(b)(10).

Kevin Kimball,
NIST Chief of Staff.

[FR Doc. 2017-18355 Filed 8-29-17; 8:45 am]

BILLING CODE 3510-13-P